DEPARTMENT OF HOUSING AND URBAN DEVELOPMENT

[Docket No. FR-7028-N-05]

60-Day Notice of Proposed Information Collection: Exigent Health and Safety Deficiency Correction Certification; OMB Control No.: 2577-0241

AGENCY: Office of the Assistant Secretary for Public and Indian Housing, PIH, Housing and Urban Development (HUD).

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 3, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Dacia Rogers, Office of Policy, Programs and Legislative Initiatives, PIH, Department of Housing and Urban Development, 451 7th Street SW (L'Enfant Plaza, Room 2206), Washington, DC 20410; telephone 202-402-3374, (this is not a toll-free number). Persons with hearing or speech impairments may access this number via TTY by calling the Federal Relay Service at (800) 877-8339. Copies of available documents submitted to OMB may be obtained from Ms. Rogers.

SUPPLEMENTARY INFORMATION: This notice informs the public that HUD is seeking approval from OMB for the information collection described in Section A.

A. Overview of Information Collection

Title of Information Collection: Exigent Health and Safety Deficiency Correction Certification.

OMB Approval Number: 2577-0241.

Type of Request: Extension of currently approved collection.

Form Number: N/A.

Description of the need for the information and proposed use:

HUD's Uniform Physical Condition Standards (UPCS) regulation (24 CFR part 5, subpart G) provides that HUD housing must be decent, safe, sanitary, and in good repair. The UPCS regulation also provides that all area and components of the housing must be free of health and safety hazards. HUD conducts physical inspections of the HUD housing to compliance with the UPCS standards. Pursuant to the UPCS inspection protocol, at the end of the inspection (or at the end of each day of a multi-day inspection) the inspector provides the property representative with a copy of the “Notification of Exigent and Fire Safety Hazards Observed” form. Each exigent health and safety (EHS) deficiency that the inspector observed that day is listed on the form. The property representative signs the form acknowledging receipt. PHAs are to correct/remedy/act abate all EHS deficiencies within 24 hours. Using the electronic format, PHAs are to notify HUD within three business days of the date of inspection—the date the PHA was provided notice of these deficiencies—that the deficiencies were corrected/remedied/acted on to abate within the prescribed time frames (per 24 CFR part 902).

Respondents: Public Housing Agencies.

Estimated Number of Respondents: 976.

Estimated Number of Responses: 976.

Frequency of Response: Once per year.

Average Hours per Response: 0.34 (approximately 20 minutes).

Total Estimated Burdens: 329.19 hours.

Information collection | Number of respondents | * Average number of reponses per respondent | Total annual responses | Burden hours per response | Total hours
Physical Assessment Subsystem (PASS) # of EHS Deficiencies 1-2 | 384 | 1 | 384 | 0.12 | 46.08
Physical Assessment Subsystem (PASS) # of EHS Deficiencies 3-5 | 241 | 1 | 241 | 0.17 | 40.97
Physical Assessment Subsystem (PASS) # of EHS Deficiencies 6-10 | 159 | 1 | 159 | 0.33 | 52.47
Physical Assessment Subsystem (PASS) # of EHS Deficiencies 11-20 | 99 | 1 | 99 | 0.83 | 82.17
Physical Assessment Subsystem (PASS) # of EHS Deficiencies 21-50 | 64 | 1 | 64 | 1.0 | 64.00
Physical Assessment Subsystem (PASS) # of EHS Deficiencies 51+ | 29 | 1 | 29 | 1.5 | 43.50
Subtotals | 976 |  | 976 |  | 329.19

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: August 28, 2020.
Merrie Nichols-Dixon,
Director, Office of Policy, Programs and Legislative Initiative.

[FR Doc. 2020-19609 Filed 9-3-20; 8:45 am]

BILLING CODE 4210-67-P